DEPARTMENT OF ENERGY

Federal Energy Regulatory Commission

[Project No. 2905-035]

Village of Enosburg Falls, Vermont; Notice of Intent To Prepare an Environmental Assessment

On April 30, 2021, the Village of Enosburg Falls, Vermont (Village) filed a relicense application for the 975-kilowatt Enosburg Falls Hydroelectric Project No. 2905 (project). The project is located on the Missisquoi River in Franklin County, Vermont. The project does not occupy federal land.

In accordance with the Commission's regulations, on June 2, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Enosburg Falls Hydroelectric Project. Therefore, in accordance with CEQ's regulations, the EA must be issued within 1 year of the issuance date of this notice.

Milestone | Target date
Commission issues EA | February 2023.¹
Comments on EA | March 2023.

Any questions regarding this notice may be directed to John Baummer at (202) 502-6837 or john.baummer@ferc.gov.

Dated: August 9, 2022.
Kimberly D. Bose,
Secretary.

[FR Doc. 2022-17496 Filed 8-12-22; 8:45 am]

BILLING CODE 6717-01-P